DEPARTMENT OF TRANSPORTATION

Federal Aviation Administration

14 CFR Part 135

[Docket No. FAA-2010-1259]

Interpretation of Rest Requirements

AGENCY: Federal Aviation Administration (FAA), DOT.

ACTION: Notice of proposed interpretation; withdrawal.

SUMMARY: On December 23, 2010, FAA published a Notice of Proposed Interpretation seeking public comment on the application of certain rest requirements during on-demand operations. Section 346 of the FAA Modernization and Reform Act of 2012 provided that the Administrator of the Federal Aviation Administration may not finalize the interpretation proposed in Docket No. FAA-2010-1259, relating to rest requirements, and published in the Federal Register on December 23, 2010. Consistent with this statute, no further action will be taken with regard to this interpretation.

DATES: The notice of proposed interpretation published December 23, 2010, at 75 FR 80746 is withdrawn as of November 7, 2013.

FOR FURTHER INFORMATION CONTACT: Robert Frenzel, Manager, Operations Law Branch, Regulations Division, Office of Chief Counsel, Federal Aviation Administration, 800 Independence Avenue SW., Washington, DC 20591; telephone: (202) 267-3073; email: Robert.Frenzel@faa.gov.

Issued in Washington, DC, on October 31, 2013.
Mark W. Bury,
Assistant Chief Counsel for International Law, Legislation and Regulations, AGC-200.

[FR Doc. 2013-26485 Filed 11-6-13; 8:45 am]

BILLING CODE 4910-13-P